DEPARTMENT OF ENERGY

[OE Docket No. PP-400]

Notice of Intent To Prepare an Environmental Impact Statement and To Conduct Public Scoping Meetings, and Notice of Floodplains and Wetlands Involvement; New England Clean Power Link Project

AGENCY: Department of Energy.

ACTION: Notice of intent.

SUMMARY: The Department of Energy (DOE) announces its intent to prepare an environmental impact statement (EIS) to assess the potential environmental impacts from its proposed federal action of granting a Presidential permit to Champlain VT, LLC, doing business as TDI-New England (TDI-NE; the Applicant), to construct, operate, maintain, and connect a new electric transmission line across the U.S.-Canada border in northern Vermont. The New England Clean Power Link Environmental Impact Statement (DOE/EIS-0503) will address potential environmental impacts from the proposed action and reasonable alternatives.

The U.S. Army Corps of Engineers (USACE)—New England District, the U.S. Environmental Protection Agency (EPA)—Region 1 (New England), and the U.S. Coast Guard (USCG) are cooperating agencies in the preparation of the EIS. The purpose of this Notice of Intent (NOI) is to inform the public about the proposed action, announce public scoping meetings, and solicit public comments regarding the scope of the EIS. Because the proposed project would involve actions in floodplains and wetlands, in accordance with DOE regulations, the EIS will include a floodplain and wetland assessment.

DATES: The public scoping period starts with the publication of this Notice in the Federal Register and will continue until October 10, 2014. Written and oral comments will be given equal weight, and DOE will consider all comments submitted or postmarked by October 10, 2014 in defining the scope of this EIS. Comments submitted or postmarked after that date will be considered to the extent practicable.

Two public scoping meetings will be held as follows:

1. Burlington, VT: Sheraton Burlington Hotel and Conference Center, 870 Williston Road, Burlington, VT 05403, Tuesday, September 16, 2014, starting at 6:00 p.m.

2. Rutland, VT: Holiday Inn Rutland, 476 Holiday Drive, Rutland, VT 05701, Wednesday, September 17, 2014, starting at 6:00 p.m.

ADDRESSES: Comments on the scope of the EIS and requests to be added to the document mailing list should be addressed to: Brian Mills, Office of Electricity Delivery and Energy Reliability (OE-20), U.S. Department of Energy, 1000 Independence Avenue SW., Washington, DC 20585; by electronic mail to Brian.Mills@hq.doe.gov; or by facsimile to 202-586-8008.

FOR FURTHER INFORMATION CONTACT: Brian Mills at the addresses above, or at 202-586-8267. For general information on the DOE National Environmental Policy Act (NEPA) process, contact Ms. Carol M. Borgstrom, Director, Office of NEPA Policy and Compliance (GC-54) at: U.S. Department of Energy, 1000 Independence Avenue SW., Washington, DC 20585; by electronic mail at askNEPA@hq.doe.gov; by facsimile at 202-586-7031; by phone at 202-586-4600 or leave a message at 800-472-2756.

For information on the USACE's role as a cooperating agency and its permit process, contact Michael S. Adams by electronic mail at Michael.S.Adams@usace.army.mil; by phone at 978-318-8485; or by mail at U.S. Army Corps of Engineers, New England District, 11 Lincoln Street, Room 210, Essex Junction, VT 05452.

For information on the EPA's role as a cooperating agency, contact Timothy Timmermann by electronic mail at Timmermann.Timothy@epa.gov; by phone at 617-918-1025; or by mail at 5 Post Office Square, Suite 100 (Mail code: ORA-17-1), Boston, MA 02109-3912.

For information on the USCG's role as a cooperating agency, contact Daniel Hubbard by electronic mail at daniel.l.hubbard@uscg.mil; or by phone at 617-223-8372; or by mail at Maritime Energy & Marine Spatial Planning, First Coast Guard District (dpw-3), 408 Atlantic Avenue, Boston, MA 02110.

SUPPLEMENTARY INFORMATION: Executive Order (E.O.) 10485, as amended by E.O. 12038, requires that a Presidential permit be issued by DOE before electric transmission facilities may be constructed, operated, maintained, or connected at the U.S. international border. The E.O. provides that a Presidential permit may be issued after a finding that the proposed project is consistent with the public interest and after favorable recommendations from the U.S. Departments of State and Defense. In determining consistency with the public interest, DOE considers the potential environmental impacts of the proposed project pursuant to the National Environmental Policy Act (NEPA), determines the project's impact on electric reliability (including whether the proposed project would adversely affect the operation of the U.S. electric power supply system under normal and contingency conditions), and considers any other factors that DOE may find relevant to the public interest. The regulations implementing the E.O. have been codified at 10 CFR Part 205. DOE's issuance of a Presidential permit indicates that there is no federal objection to the project, but does not mandate that the project be undertaken.

TDI-NE applied on May 20, 2014, to DOE's Office of Electricity Delivery and Energy Reliability (OE) for a Presidential permit to construct, operate, maintain, and connect an electric transmission line across the U.S.-Canada border in northern Vermont. The proposed project, the New England Clean Power Link (NECPL), is a high voltage direct current (HVDC) electric transmission line with an operating voltage of +/−300 to 320 kilovolts (kV). The project would be constructed in both aquatic (underwater) and terrestrial (underground) environments.

As proposed, the NECPL project would have a transfer rating of 1,000 megawatts (MW). The proposed project would originate in the Canadian province of Quebec, cross the border in Alburgh, Vermont, and terminate at the existing Coolidge Substation in the towns of Ludlow and Cavendish, Vermont. The total length of the proposed project from the U.S. border to the Coolidge Substation is approximately 154.1 miles (248 km). The proposed route is described in more detail below, under Applicant's Proposal.

The NECPL Presidential permit application, including associated maps and drawings, can be viewed or downloaded in its entirety from the OE program Web site at: http://energy.gov/oe/services/electricity-policy-coordination-and-implementation/international-electricity-regulatio-2. The July 9, 2014, Federal Register Notice of Receipt of Application (79 FR 38869) is also available at this same Web site.

The proposed federal action is the granting of the Presidential permit for the international border crossing. The proposed construction, operation, maintenance, and connection of the portion of the transmission line within the United States are connected actions to DOE's proposed action. DOE will analyze potential environmental impacts from the proposed federal action and the connected actions in the EIS. The EIS will be prepared in accordance with NEPA as amended (42 U.S.C. 4321 et seq.), the Council on Environmental Quality (CEQ) NEPA regulations (40 CFR Parts 1500-1508), and the DOE NEPA implementing procedures (10 CFR Part 1021). Because the proposed project may involve actions in floodplains and wetlands, in accordance with 10 CFR Part 1022, Compliance with Floodplain and Wetland Environmental Review Requirements, the EIS will include a floodplain and wetland assessment. DOE will include a floodplain statement of findings in the Record of Decision.

DOE invites Tribal governments and federal, state, and local agencies with jurisdiction by law or special expertise with respect to environmental issues to be cooperating agencies in the preparation of the EIS, as defined at 40 CFR 1501.6.

The U.S. Army Corps of Engineers (USACE), New England District, is a cooperating agency on this EIS. A Department of the Army permit is expected to be required for proposed discharges of dredged or fill material into waters of the United States, including wetlands, under Section 404 of the Clean Water Act (33 U.S.C. 1344), and also for proposed crossing(s) of navigable waterways under Section 10 of the Rivers and Harbors Act (33 U.S.C. 403). TDI-NE will apply to the USACE for the required Department of the Army permits. EPA Region 1 and the USCG are cooperating agencies due to their special expertise related to the proposed action.

Applicant's Proposal

TDI-NE describes its proposed route for the Project in terms of two segments, the Lake Champlain Segment and the Overland Segment. The U.S. portion of the proposed project is entirely within the State of Vermont.

The Lake Champlain segment would begin in Vermont at the U.S.-Canada border. The HVDC transmission line would be located underground within the Town of Alburgh, VT, for approximately 0.5 miles (0.8 km). The HVDC transmission line would then enter Lake Champlain via horizontal directional drilling (HDD) on privately-owned property, and the transmission line would be buried in the bed of Lake Champlain, or placed on the bottom of the lake at lake depths of 150 feet (46 m) or more. The total distance through the lake is approximately 97.6 miles (157.1 km), entirely within the jurisdictional waters of the State of Vermont.

The Overland Segment would begin at the southern end of Lake Champlain in the Town of Benson where the HVDC transmission line would exit the water, via HDD installation on privately-owned property. The cables would be buried within the rights-of-way (ROW) of town roads east for approximately 4.4 miles (7.1 km) to Route 22A and then travel south within the Route 22A ROW for approximately 8.1 miles (13.0 km) to Route 4 in the Town of Fair Haven. The cables would be buried within the Route 4 ROW east for approximately 17.2 miles (27.7 km) to Route 7 in the Town of Rutland before travelling south buried within the Route 7 ROW for approximately 2.6 miles (4.2 km) to Route 103 in the Town of North Clarendon. Within the Route 103 ROW the cables would be buried for approximately 17.8 miles (28.6 km) south by southeast to Route 100 in the Town of Ludlow where the cables would be buried for approximately 0.8 miles (1.3 km) in the Route 100 ROW to connect with Town of Ludlow roads. The cables would be buried for approximately 4.8 miles (7.6 km) before terminating at the proposed HVDC converter station. Underground single-circuit 345-kV AC cables would be installed for approximately 0.3 miles (.5 km) to the south to connect the proposed HVDC converter station with the existing Coolidge Substation, which connects to the electric grid. The Applicant represents that the Project's precise final route would be subject to a number of factors, including resource issues, federal and state permitting, land acquisition, and stakeholder input.

In addition to the proposed route, TDI-NE's Presidential permit application describes four segment alternatives that it considered but decided not to incorporate into its proposed route. These include one alternative for the Lake Champlain segment and three alternatives for the overland segment (i.e., from Lake Champlain to the proposed HVDC converter station).

The alternative considered by TDI-NE for the Lake Champlain segment would have overlapped the proposed route within the lake and then proceeded for an additional 3 miles (4.8 km) south in Lake Champlain to exit the lake via HDD in the Town of West Haven, rather than Benson. The routing would proceed east through West Haven undergrounded along local roads (Cold Spring Road, Pettis Road, and Main Street) for approximately 8 miles (12.9 km) before transferring to the Route 22A ROW. At this point the alternative would continue south in the Route 22A ROW, approximately 3.4 miles (5.6 km) to the Town of Fair Haven.

The three Overland segment alternatives included a Western Segment alternative whereby the transmission cables would exit Route 4 at the intersection with Route 4A and would travel along Route 4A and then a railroad ROW to the Town of West Rutland for a distance of 13 miles (20.9 km). The route would then re-enter Route 4 and continue along the proposed route to the proposed converter station location. Additionally, there were two Eastern Segment alternatives that considered routing the cables: (1) within the railroad ROW in the Town of North Clarendon and travel south, then east, to Route 103 in Ludlow for a distance of 23.3 miles (37.5 km), at which point it would overlap again with the proposed route to reach the proposed HVDC converter station location in 7.5 miles (12.1 km); or (2) in the Vermont Electric Power Company ROW beginning in West Rutland for approximately 24 miles (38.6) to the proposed HVDC converter station location.

Agency Purpose and Need, Proposed Action, and Alternatives

DOE's proposed action is to grant a Presidential permit to TDI-NE to construct, operate, maintain, and connect a new electric transmission line across the U.S.-Canada border near Alburgh, Vermont. The New England Clean Power Link Transmission Line Environmental Impact Statement (DOE/EIS-0503) will address potential environmental impacts from the proposed action and the range of reasonable alternatives. The purpose and need for DOE's action is to decide whether to grant TDI-NE a Presidential permit. DOE's decision will be based on the NEPA review, the impact of the proposed action on electric reliability, and any other factors that DOE may find relevant to the public interest.

Under the Proposed Action, DOE would grant a Presidential permit to TDI-NE to construct, operate, maintain, and connect a new electric transmission line across the U.S.-Canada border in northern Vermont.

Under the No Action alternative, DOE would not grant a Presidential permit for the proposed project. Under the No Action alternative, the EIS assumes for purposes of analysis that the proposed line and associated facilities would not be constructed.

Identification of Environmental Issues

The EIS will examine potential public health and safety effects and environmental impacts in the U.S. from the proposed transmission facilities. This notice is intended to inform agencies and the public of the proposed project, and to solicit comments and suggestions for consideration in the preparation of the EIS. To help the public frame its comments, the following is a list of examples of several potential environmental issues that DOE has identified for analysis:

1. Protected, threatened, endangered, or sensitive species of animals or plants, or their critical habitats: The EIS will consider the potential effects of the construction and operation of the project on protected or candidate species, including but not limited to the Indiana bat, dwarf wedgemussel, and Northeastern bulrush (federally listed endangered species) and northern long-eared bat (proposed federally listed endangered species as of June 30, 2014).

2. Biological resources: The EIS will consider the potential effects of the construction and operation of the project on fish and shellfish, insects, birds and other wildlife, as well as effects on forests, shrubland, wetland, and grassland plant species, and the potential for introduction of invasive species.

3. Floodplains and wetlands: The EIS will consider the potential effects of the construction and operation of the project on floodplains and wetlands, including those associated with lowland forest type vegetation.

4. Cultural or historic resources: The EIS will consider the potential effects of the construction and operation of the project on archeological, architectural, and Traditional Cultural Properties (i.e., properties of religious and cultural importance), National Historic Landmarks, historic properties currently listed and potentially eligible for listing on the National Register of Historic Places, prehistoric sites, and cultural landscape.

5. Human health and safety: The EIS will consider the nature and potential effects of electric and magnetic fields that may be generated by the operation of the project.

6. Air quality: The EIS will consider the potential effects of the construction and operation of the project on air quality, including the emission and effects of greenhouse gases such as carbon dioxide.

7. Soil: The EIS will consider the potential effects of the construction and operation of the project on the loss or disturbance of soils.

8. Water resources: The EIS will consider the potential effects of the construction and operation of the project on a diverse set of water resource types that are found throughout the proposed project area including, but not limited to, major watersheds, public water inventory watercourses and basins, groundwater, and impaired water bodies.

9. Land use: The EIS will consider the potential effects of the installation and operation of the project on land uses, including agricultural lands, parks, recreational areas, and other public lands.

10. Noise: The EIS will consider the potential effects of the installation and operation of the project on noise levels at locations along the proposed line as well as at the location of the proposed HVDC converter station in Ludlow.

11. Socioeconomics: The EIS will consider potential impacts on community services and the potential for disproportionately high and adverse impacts on minority or low-income populations.

This list is not intended to be all inclusive or to imply any predetermination of impacts. DOE invites interested parties to suggest specific issues within these general categories, or other issues not included above, to be considered in the EIS.

Scoping Process

Interested parties are invited to participate in the scoping process, both to help define the environmental issues to be analyzed and to identify the range of reasonable alternatives. DOE invites interested agencies, organizations, Native American tribes, and members of the public to submit comments to assist in identifying significant environmental issues and in determining the appropriate scope of the EIS. Written and oral comments will be given equal weight. All comments received by DOE will be publicly available on the project EIS Web site at: http://www.NECPLinkEIs.com. Personally identifiable information, other than individuals' names, will be withheld.

The scoping meetings will be structured in two parts: first, a “workshop” period with presentations on the proposed NECPL project, and the associated federal decisions, followed by informal discussion that will not be recorded; and, second, the formal taking of comments with transcription by a court reporter. The meetings will provide interested parties the opportunity to view proposed project exhibits, ask questions, and make comments. The Applicant, DOE, and cooperating agency personnel will be available to answer questions.

Persons submitting comments during the scoping process, whether orally or in writing, will receive either paper or electronic copies of the draft EIS, according to their preference. Persons who do not wish to submit comments or suggestions at this time but who would like to receive a copy of the draft EIS for review and comment when it is issued should notify Brian Mills as provided above, with their paper-or-electronic preference.

EIS Preparation and Schedule

In preparing the draft EIS, DOE will consider comments submitted during the scoping period. Comments can be submitted to Brian Mills either electronically or by paper copy; if the latter, consider using a delivery service because materials submitted by regular mail are subject to security screening, which both causes extended delay and potential damage to the contents. DOE will summarize all comments received in a “Scoping Report” that will be available on a project EIS Web site, and will be distributed either electronically to all parties of record or by mailing paper copies upon request. DOE expects to issue the draft NECPL EIS in April 2015 and the final EIS in October 2015.

Issued in Washington, DC, on August 20, 2014.
Patricia A. Hoffman,
Assistant Secretary, Office of Electricity Delivery and Energy Reliability.

[FR Doc. 2014-20270 Filed 8-25-14; 8:45 am]

BILLING CODE 6450-01-P